DEPARTMENT OF ENERGY

Federal Energy Regulatory Commission

[Project No. 1494-438]

Grand River Dam Authority; Notice of Revised Procedural Schedule for Filing Contaminated Sediment Report for the Proposed Project Relicense

On May 30, 2023, Grand River Dam Authority (GRDA) filed an application for a new license to continue to operate and maintain the 105.176-megawatt Pensacola Hydroelectric Project No. 1494 (Pensacola Project). On September 23, 2025, Commission staff issued a study plan determination (SPD) for an outstanding request for a study plan modification related to a contaminated sediment transport study. The SPD included an Integrated Licensing Process Plan and Schedule (Process Plan and Schedule), which among other things, required the filing of a final report for the contaminated sediment transport desktop study by April 21, 2026.

On October 23, 2025, GRDA requested an 180-day extension of time to file the final study report. GRDA requested the additional time to: (1) identify and consult with experts from federal and state agencies, Tribes, local governments, and interested non-governmental agencies; (2) allow time for GRDA and the stakeholders to refamiliarize themselves with the administrative record, as well as for GRDA to retain a consultant to conduct the study; and (3) prepare the study report.

GRDA's request is reasonable, and, therefore, is granted. The revised Process Plan and Schedule, which reflects the 180-day extension of time to file the final study report, is provided below. Further revisions to the schedule may be made as appropriate.

Lead | Activity | Timeframe | Deadline
FERC | Study Plan Determination for Contaminated Sediment Transport Study and Desktop Contaminated Sediment Transport Study |  | September 23, 2025.
GRDA | Consult with Tribes, agencies, residents of affected communities, and people who manage GRDA's project lands and adjacent lands to: solicit information on contamination and contaminant transport and activities and practices that present potential human pathways for contaminants; review recreation records; and review TCPs, including those who use them | No later than 30 days after the Commission's Study Plan Determination | January 21, 2026.
Stakeholders | Submit any relevant information on contamination and contaminant transport and activities and practices that present potential human pathways for contaminants; review of recreation records, review of TCPs, including who uses them | No later than 30 days after GRDA submits solicitation | March 22, 2026.
GRDA | Based on the identified contaminant pathways, GRDA would then review the literature on the risk of contaminant exposure, identify any potential contaminant exposure risks to affected people, and identify possible (i.e., practical and effective) exposure mitigation approaches | No later than 30 days after stakeholders submit relevant information on contamination and contaminant transport and activities and practices that present potential human pathways for contaminants | May 21, 2026.
GRDA | GRDA would then develop a draft report on its findings and submit it to Oklahoma DEQ, the City, the Tribes, and other affected stakeholders for review | No later than 60 days after GRDA's literature review is complete | July 20, 2026.
Stakeholders | Submit comments on the draft report | No later than 30 days after GRDA submits the draft report for review | September 18, 2026.
GRDA | Submit final report to the Commission, including documentation of consultation with Oklahoma DEQ, the City, the Tribes, and other affected stakeholders, copies of comments and recommendations, and specific descriptions of how comments from Oklahoma DEQ, the City, the Tribes, and other stakeholders were accommodated in the report | No later than 30 days after the deadline for comments on the draft report | October 18, 2026.
FERC | Notice of acceptance and ready for environmental analysis | No later than 45 days after GRDA submits the final report | November 2, 2026.

Any questions regarding this notice may be directed to Allan Creamer at (202) 502-8365, or by email at allan.creamer@ferc.gov.

(Authority: 18 CFR 2.1)

Dated: December 12, 2025.
Debbie-Anne A. Reese,
Secretary.

[FR Doc. 2025-23219 Filed 12-17-25; 8:45 am]

BILLING CODE 6717-01-P